DEPARTMENT OF TRANSPORTATION

Office of the Secretary

[Dockets OST-00-7231 and OST-00-7232]

Applications of Air-Serv., Inc. d/b/a Airserv d/b/a Indigo, L.L.C. d/b/a Newworldair Holdings, Inc., for Issuance of New Certificate Authority

AGENCY: Department of Transportation.

ACTION: Notice of order to show cause (Order 2000-8-1)

SUMMARY: The Department of Transportation is directing all interested persons to show cause why it should not issue orders finding Air-Serv., Inc. d/b/a AirServ, d/b/a Indigo, L.L.C., and d/b/a NewWorldAir Holdings, Inc., fit, willing, and able and awarding it certificates of public convenience and necessity to engage in interstate and foreign charter air transportation of persons, property and mail as a certificated air carrier.

RESPONSES: Objections and answers to objections should be filed in Dockets OST-00-7231 and OST-00-7232 and addressed to the Department of Transportation Dockets, 400 Seventh Street, SW., PL-401, Washington, DC 20590, and should be served on all persons listed in Attachment A to the order. Persons wishing to file objections should do so no later than August 8, 2000.

FOR FURTHER INFORMATION CONTACT: Mr. James Lawyer, Air Carrier Fitness Division (X-56, Room 6401), U.S. Department of Transportation, 400 Seventh Street, SW., Washington, DC 20590, (202) 366-1064.

Dated: August 1, 2000.
A. Bradley Mims,
Acting Assistant Secretary for Aviation and International Affairs.

[FR Doc. 00-19984 Filed 8-7-00; 8:45 am]

BILLING CODE 4910-62-P